DEPARTMENT OF DEFENSE

48 CFR Parts 251 and 252

[DFARS Case 2003-D045]

Defense Federal Acquisition Regulation Supplement; Contractor Use of Government Supply Sources

AGENCY: Department of Defense (DoD).

ACTION: Final rule.

SUMMARY: DoD has issued a final rule amending the Defense Federal Acquisition Regulation Supplement (DFARS) to update text pertaining to contractor use of Government supply sources. This rule is a result of a transformation initiative undertaken by DoD to dramatically change the purpose and content of the DFARS.

DATES: Effective November 22, 2004.

FOR FURTHER INFORMATION CONTACT: Mr. Steven Cohen, Defense Acquisition Regulations Council, OUSD (AT&L) DPAP (DAR), IMD 3C132, 3062 Defense Pentagon, Washington, DC 20301-3062. Telephone (703) 602-0293; facsimile (703) 602-0350. Please cite DFARS Case 2003-D045.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dfars/transf.htm.

This final rule is a result of the DFARS Transformation initiative. The DFARS changes include—

• Deletion of text at DFARS 251.102 containing procedures for authorizing a contractor to use Government supply sources. Text on this subject has been relocated to the new DFARS companion resource, Procedures, Guidance, and Information (PGI), available at http://www.acq.osd.mil/dpap/dars/pgi.

• Deletion of text at DFARS 251.105 regarding contractor payment for purchases from Government supply sources. This subject is addressed in the clause at DFARS 252.251-7000 as amended by this rule.

DoD published a proposed rule at 69 FR 8159 on February 23, 2004. DoD received no comments on the proposed rule. Therefore, DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the DFARS changes address procedural matters that apply only when a contractor is authorized to use Government supply sources.

C. Paperwork Reduction Act

The Paperwork Reduction Act does not apply because the rule does not impose any information collection requirements that require the approval of the Office of Management and Budget under 44 U.S.C. 3501, et seq.

List of Subjects in 48 CFR Parts 251 and 252

Government procurement.

Michele P. Peterson,
Executive Editor, Defense Acquisition Regulations Council.

Therefore, 48 CFR Parts 251 and 252 are amended as follows:

1. The authority citation for 48 CFR Parts 251 and 252 continues to read as follows:

Authority: 41 U.S.C. 421 and 48 CFR Chapter 1.

PART 251—USE OF GOVERNMENT SOURCES BY CONTRACTORS

2. Section 251.102 is revised to read as follows:

251.102 Authorization to use Government supply sources.

(e) When authorizing contractor use of Government supply sources, follow the procedures at PGI 251.102.

(3)(ii) The contracting officer may also authorize the contractor to use the DD Form 1155 when requisitioning from the Department of Veterans Affairs.

(f) The authorizing agency is also responsible for promptly considering requests of the DoD supply source for authority to refuse to honor requisitions from a contractor that is indebted to DoD and has failed to pay proper invoices in a timely manner.

251.105 [Removed]

3. Section 251.105 is removed.

PART 252—SOLICITATION PROVISIONS AND CONTRACT CLAUSES

4. Section 252.251-7000 is amended as follows:

a. By revising the clause date to read “(NOV 2004)”;

b. In paragraph (c)(4) by revising the second sentence; and

c. In paragraph (c)(4) by adding a new sentence after the second sentence. The revised and added text reads as follows:

252.251-7000 Ordering from government supply sources.

* * * * *

(c) * * *

(4) * * * For purchases made from DoD supply sources, this means within 30 days of the date of a proper invoice. The Contractor shall annotate each invoice with the date of receipt. * * *

* * * * *

[FR Doc. 04-25826 Filed 11-19-04; 8:45 am]

BILLING CODE 5001-08-P